INTERNATIONAL TRADE COMMISSION

[Investigation No. 337-TA-980]

Certain Rack Mountable Power Distribution Units; Commission Decision Not To Review an Initial Determination Terminating the Investigation in Its Entirety Based on a Settlement Agreement; Termination of the Investigation

AGENCY: U.S. International Trade Commission.

ACTION: Notice.

SUMMARY: Notice is hereby given that the U.S. International Trade Commission has determined not to review the presiding administrative law judge's (“ALJ”) initial determination (“ID”) (Order No. 1) terminating the investigation in its entirety based on a settlement agreement.

FOR FURTHER INFORMATION CONTACT: Robert Needham, Office of the General Counsel, U.S. International Trade Commission, 500 E Street SW., Washington, DC 20436, telephone (202) 708-5468. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on January 12, 2016, based on a complaint filed by Server Technology, Inc. (“STI”), of Reno, Nevada. 81 FR 1441-42. The complaint alleges violations of section 337 of the Tariff Act of 1930, as amended, 19 U.S.C. 1337, in the importation into the United States, the sale for importation, and the sale within the United States after importation of certain rack mountable power distribution units through the infringement of certain claims of U.S. Patent Nos. 7,162,521; 7,400,493; 7,414,329; 7,447,002; 7,567,430; 7,706,134; 8,541,907; 8,601,291; and 8,694,272. Id. at 1441. The Commission's notice of investigation named as respondents Raritan Americas, Inc., of Somerset, New Jersey; Legrand North America, of West Hartford, Connecticut; and Legrand SA of Limoges Cedex, France (collectively, “Respondents”). Id. at 1442. The Office of Unfair Import Investigation was not named as a party to the investigation. Id.

On January 8, 2016, STI filed an unopposed motion to terminate the investigation based on a settlement agreement. No party responded to the motion.

On January 12, 2016, the ALJ issued the subject ID, granting the motion. The ALJ found that STI attached the settlement agreement, and stated that there were no other agreements between STI and Respondents concerning the subject matter of the investigation. The ALJ also found that there is no indication that terminating the investigation based on settlement would harm the public interest. No party petitioned for review of the subject ID.

The Commission has determined not to review the subject ID.

The authority for the Commission's determination is contained in section 337 of the Tariff Act of 1930, as amended (19 U.S.C. 1337), and in Part 210 of the Commission's Rules of Practice and Procedure (19 CFR part 210).

By order of the Commission.
Issued: February 3, 2016.
Lisa R. Barton,
Secretary to the Commission.

[FR Doc. 2016-02416 Filed 2-8-16; 8:45 am]

BILLING CODE 7020-02-P